DEPARTMENT OF ENERGY

Federal Energy Regulatory Commission

Combined Notice of Filings #1

Take notice that the Commission received the following electric corporate filings:

Docket Numbers: EC21-106-000.

Applicants: Green Mountain Power Corporation, Vermont Transco LLC, Vermont Electric Power Company.

Description: Application for Authorization Under Section 203 of the Federal Power Act of Green Mountain Power Corporation.

Filed Date: 7/16/21.

Accession Number: 20210716-5173.

Comments Due: 5 p.m. ET 8/6/21.

Take notice that the Commission received the following electric rate filings:

Docket Numbers: ER13-1508-007.

Applicants: Entergy Arkansas, Inc.

Description: Report Filing: EAL Refund Report (ER13-1508) to be effective N/A.

Filed Date: 7/19/21.

Accession Number: 20210719-5121.

Comments Due: 5 p.m. ET 8/9/21.

Docket Numbers: ER19-229-006.

Applicants: Allegheny Ridge Wind Farm, LLC.

Description: Report Filing: Refund Report Under Docket ER19-229 to be effective N/A.

Filed Date: 7/19/21.

Accession Number: 20210719-5059.

Comments Due: 5 p.m. ET 8/9/21.

Docket Numbers: ER21-43-002.

Applicants: Exelon Generation Company, LLC.

Description: Compliance filing: Supplemental Report Regarding a Spot Market Sale of Electricity in WECC to be effective N/A.

Filed Date: 7/19/21.

Accession Number: 20210719-5112.

Comments Due: 5 p.m. ET 8/9/21.

Docket Numbers: ER21-51-002.

Applicants: BP Energy Company.

Description: Compliance filing: Supplemental Report Regarding Certain WECC Spot Market Sales to be effective N/A.

Filed Date: 7/19/21.

Accession Number: 20210719-5134.

Comments Due: 5 p.m. ET 8/9/21.

Docket Numbers: ER21-57-001.

Applicants: Shell Energy North America (US), L.P.

Description: Compliance filing: Supplement to Oct 7, 2020 Filing Regarding Spot Market Sales Above Soft Cap to be effective N/A.

Filed Date: 7/19/21.

Accession Number: 20210719-5136.

Comments Due: 5 p.m. ET 8/9/21.

Docket Numbers: ER21-61-002.

Applicants: El Paso Electric Company.

Description: Compliance filing: WECC Soft Cap Justification to be effective N/A.

Filed Date: 7/19/21.

Accession Number: 20210719-5132.

Comments Due: 5 p.m. ET 8/9/21.

Docket Numbers: ER21-410-003.

Applicants: Tri-State Generation and Transmission Association, Inc.

Description: Compliance filing: Revisions to Generator Interconnection Procedures to be effective 1/13/2021.

Filed Date: 7/19/21.

Accession Number: 20210719-5147.

Comments Due: 5 p.m. ET 8/9/21.

Docket Numbers: ER21-2009-001.

Applicants: PJM Interconnection, L.L.C.

Description: Tariff Amendment: Errata to correct metadata in ER21-2009, SA No. 5817; Queue No. AF2-085 to be effective 9/15/2020.

Filed Date: 7/19/21.

Accession Number: 20210719-5078.

Comments Due: 5 p.m. ET 8/9/21.

Docket Numbers: ER21-2446-000.

Applicants: Rainbow Energy Center, LLC.

Description: Initial rate filing: Rainbow Energy Center, LLC Reactive Power Filing to be effective 9/1/2021.

Filed Date: 7/16/21.

Accession Number: 20210716-5164.

Comments Due: 5 p.m. ET 8/6/21.

Docket Numbers: ER21-2447-000.

Applicants: Versant Power.

Description: Versant Power submits Petition for Limited Waiver of Unreserved Transmission Use Penalty Policy.

Filed Date: 7/16/21.

Accession Number: 20210716-5174.

Comments Due: 5 p.m. ET 8/6/21.

Docket Numbers: ER21-2448-000.

Applicants: PJM Interconnection, L.L.C.

Description: § 205(d) Rate Filing: Original ISA, Service Agreement No. 6106; Queue No. AD2-213 to be effective 6/17/2021.

Filed Date: 7/19/21.

Accession Number: 20210719-5028.

Comments Due: 5 p.m. ET 8/9/21.

Docket Numbers: ER21-2449-000.

Applicants: Assembly Solar II, LLC.

Description: Baseline eTariff Filing: Reactive Power Compensation Filing to be effective 10/1/2021.

Filed Date: 7/19/21.

Accession Number: 20210719-5056.

Comments Due: 5 p.m. ET 8/9/21.

Docket Numbers: ER21-2451-000.

Applicants: PJM Interconnection, L.L.C.

Description: § 205(d) Rate Filing: Original ISA No. 6101; Queue No. AE1-060 to be effective 6/17/2021.

Filed Date: 7/19/21.

Accession Number: 20210719-5088.

Comments Due: 5 p.m. ET 8/9/21.

Docket Numbers: ER21-2452-000.

Applicants: Southern California Edison Company.

Description: § 205(d) Rate Filing: Second Amended GIA & DSA Johanna Energy Center, LLC and Terminate GIA eTariff to be effective 9/18/2021.

Filed Date: 7/19/21.

Accession Number: 20210719-5092.

Comments Due: 5 p.m. ET 8/9/21.

Docket Numbers: ER21-2453-000.

Applicants: Exelon Generation Company, LLC.

Description: Compliance filing: Report Regarding a Spot Market Sale of Electricity in WECC to be effective N/A.

Filed Date: 7/19/21.

Accession Number: 20210719-5097.

Comments Due: 5 p.m. ET 8/9/21.

Docket Numbers: ER21-2454-000.

Applicants: Rainbow Energy Marketing Corporation.

Description: Compliance filing: 2020 Soft Price Cap Compliance Filing to be effective N/A.

Filed Date: 7/19/21.

Accession Number: 20210719-5098.

Comments Due: 5 p.m. ET 8/9/21.

Docket Numbers: ER21-2455-000.

Applicants: California Independent System Operator Corporation.

Description: § 205(d) Rate Filing: 2021-07-19 FERC Order No. 2222 Compliance Filing to be effective 12/31/9998.

Filed Date: 7/19/21.

Accession Number: 20210719-5100.

Comments Due: 5 p.m. ET 8/9/21.

Docket Numbers: ER21-2456-000.

Applicants: Rainbow Energy Marketing Corporation.

Description: Compliance filing: 2021 Soft Price Cap Compliance Filing to be effective N/A.

Filed Date: 7/19/21.

Accession Number: 20210719-5101.

Comments Due: 5 p.m. ET 8/9/21.

Docket Numbers: ER21-2457-000.

Applicants: Tri-State Generation and Transmission Association, Inc.

Description: Compliance filing: 2021 Soft Price Cap Compliance Filing to be effective N/A.

Filed Date: 7/19/21.

Accession Number: 20210719-5106.

Comments Due: 5 p.m. ET 8/9/21.

Docket Numbers: ER21-2458-000.

Applicants: Cedar Creek Wind Energy, LLC.

Description: § 205(d) Rate Filing: Amended Tariff Records for Certificates of Concurrence to be effective 7/6/2021.

Filed Date: 7/19/21.

Accession Number: 20210719-5117.

Comments Due: 5 p.m. ET 8/9/21.

Docket Numbers: ER21-2459-000.

Applicants: Tenaska Power Services Co.

Description: Compliance filing: Filing re Certain Spot Sales at Prices Exceeding West-Wide Soft Cap-June 2021 to be effective N/A.

Filed Date: 7/19/21.

Accession Number: 20210719-5122.

Comments Due: 5 p.m. ET 8/9/21.

Docket Numbers: ER21-2460-000.

Applicants: New York Independent System Operator, Inc.

Description: Compliance filing: NYISO NOPR compliance filing of tariff revisions related to Order No. 2222 to be effective 12/31/9998.

Filed Date: 7/19/21.

Accession Number: 20210719-5126.

Comments Due: 5 p.m. ET 8/9/21.

Docket Numbers: ER21-2461-000.

Applicants: TransAlta Energy Marketing (U.S.) Inc.

Description: Compliance filing: Notice and Justification for Spot Sales above WECC Soft Cap to be effective N/A.

Filed Date: 7/19/21.

Accession Number: 20210719-5142.

Comments Due: 5 p.m. ET 8/9/21.

Docket Numbers: ER21-2462-000.

Applicants: Sempra Gas & Power Marketing, LLC.

Description: Compliance filing: WECC Cost Justification Filing to be effective N/A.

Filed Date: 7/19/21.

Accession Number: 20210719-5158.

Comments Due: 5 p.m. ET 8/9/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 19, 2021.
Debbie-Anne A. Reese,
Deputy Secretary.

[FR Doc. 2021-15695 Filed 7-22-21; 8:45 am]

BILLING CODE 6717-01-P